DEPARTMENT OF THE INTERIOR

Fish and Wildlife Service

50 CFR Part 17

[Docket No. FWS-R8-ES-2010-0013]

[MO 92210-0-0008-B2]

Endangered and Threatened Wildlife and Plants; Initiation of Status Review for Sacramento splittail (Pogonichthys macrolepidotus)

AGENCY: Fish and Wildlife Service, Interior.

ACTION: Initiation of status review and solicitation of new information.

SUMMARY: We, the U.S. Fish and Wildlife Service (Service), under the authority of the Endangered Species Act of 1973, as amended (Act), announce the initiation of a status review for the Sacramento splittail (Pogonichthy macrolepidotus). To ensure that the status review is comprehensive, we are soliciting scientific and commercial data and other information regarding this species. Based on the status review, we will issue a 12-month finding, which will address whether the listing may be warranted, as provided in section 4(b)(3)(B) of the Act.

DATES: To allow us adequate time to conduct this review, we request that we receive information on or before May 20, 2010. After this date, you must submit information directly to the Field Office (see FOR FURTHER INFORMATION CONTACT section below). Please note that we may not be able to address or incorporate information that we receive after the above requested date.

ADDRESSES: You may submit comments by one of the following methods:

• Federal eRulemaking Portal: http://www.regulations.gov. Search for Docket No. FWS-R8-ES-2010-0013 and then follow the instructions for submitting comments.

• U.S. mail or hand-delivery: Public Comments Processing, Attn: FWS-R8-ES-2010-0013; Division of Policy and Directives Management; U.S. Fish and Wildlife Service; 4401 N. Fairfax Drive, Suite 222; Arlington, VA 22203.

We will post all information received on http://www.regulations.gov. This generally means that we will post any personal information you provide us (see the Information Solicited section below for more details).

FOR FURTHER INFORMATION CONTACT: Dan Castleberry, Field Supervisor, San Francisco Bay-Delta Fish and Wildlife Office, 650 Capitol Mall, fifth Floor, Sacramento, CA 95814; by telephone at 916-930-5632; or by facsimile at 916-930-5654. Persons who use a telecommunications device for the deaf (TDD), call the Federal Information Relay Service (FIRS) at 800-877-8339

SUPPLEMENTARY INFORMATION:

Information Solicited:

To ensure the status review is complete and based on the best available scientific and commercial information, we request information on the Sacramento splittail. We request any additional information from governmental agencies, Native American Tribes, the scientific community, industry, and any other interested parties. We seek information on:

(1)The species' biology, range, and population trends, including:

(a) Habitat requirements for feeding, breeding, and sheltering;

(b) Genetics and taxonomy;

(c) Historical and current range including distribution patterns;

(d) Historical and current population levels, and current and projected trends; and

(e) Past and ongoing conservation measures for the species and/or its habitat.

(2) The factors that are the basis for making a listing determination for a species under section 4(a) of the Endangered Species Act of 1973, as amended (Act; 16 U.S.C. 1531 et seq.), which are:

(a) The present or threatened destruction, modification, or curtailment of its habitat or range;

(b) Overutilization for commercial, recreational, scientific, or educational purposes;

(c) Disease or predation;

(d) The inadequacy of existing regulatory mechanisms; or

(e) Other natural or manmade factors affecting its continued existence.

(3) The potential effects global climate change may have on the Sacramento splittail or its habitat.

Please include sufficient information with your submission (such as full references) to allow us to verify any scientific or commercial information you include.

If, after the status review, we determine that listing the Sacramento splittail is warranted, we will propose critical habitat (see definition in section 3(5)(A) of the Act), as per section 4 of the Act, to the maximum extent prudent and determinable at the time we propose to list the species. Therefore, we also request specific comments and information as to what, if any, critical habitat you think should be proposed for designation if the species is proposed for listing, and why such habitat meets the requirements of the Act. Specifically, for areas within the geographical range currently occupied by the species, we request data on:

(1) The amount and distribution of Sacramento splittail habitat;

(2) The physical and biological features of Sacramento splittail habitat that are essential to the conservation of the species;

(3) Special management considerations or protections that the features essential to the conservation of Sacramento splittail my require, including managing for the potential effects of climate change;

(4) Any areas that are essential to the conservation of Sacramento splittail and why;

(5) Land use designations and current or planned activities in Sacramento splittail habitats and their possible impacts on proposed critical habitat;

(6) Conservation programs and plans that protect Sacramento splittail and its habitat; and,

(7) Whether we could improve or modify our approach to designating critical habitat in any way to provide for greater public participation and understanding, or to better accommodate public concerns and comments.

In addition, we request data and information on “specific areas outside the geographical area occupied by the species.”

Submissions merely stating support for or opposition to the action under consideration without providing supporting information, although noted, will not be considered in making a determination. Section 4(b)(1)(A) of the Act directs that determinations as to whether any species is an endangered or threatened species must be made “solely on the basis of the best scientific and commercial data available.”

You may submit your information concerning this status review by one of the methods listed in the ADDRESSES section. If you submit information via http://www.regulations.gov, your entire submission—including any personal identifying information—will be posted on the website. If you submit a hardcopy that includes personal identifying information, you may request at the top of your document that we withhold this personal identifying information from public review. However, we cannot guarantee that we will be able to do so. We will post all hardcopy submissions on http://www.regulations.gov.

Information and supporting documentation that we received and used in preparing this finding, will be available for public inspection on http://www.regulations.gov, or by appointment, during normal business hours, at the U.S. Fish and Wildlife Service, Bay Delta Fish and Wildlife Office (see FOR FURTHER INFORMATION CONTACT).

Previous Federal Actions

On September 22, 2003, the Service published a Notice of Remanded Determination of Status for the Sacramento splittail in the Federal Register (68 FR 55140) that removed the Sacramento splittail from the endangered species list. Please refer to the September 22, 2003 Federal Register notice (68 FR 55140) for previous Federal actions taken on Sacramento splittail prior to September 22, 2003.

On August 13, 2009 the Center for Biological Diversity (CBD) filed a complaint in U.S. District Court for the Northern District of California, challenging the Service on the merits of the 2003 determination and alleging improper political influence of the former Department of Interior, Deputy Assistant Secretary for Fish Wildlife and Parks, Julie MacDonald. In a settlement dated February 1, 2010 (Case4:09-cv-03711-PJH), the Service agreed to open a 30-day public comment period to allow for the submission of additional information by the public. The Service also agreed to submit to the Federal Register a new status review and 12-month finding as to whether listing the Sacramento splittail is warranted or not warranted. If warranted, the Service further agreed to publish, concurrently with the 12-month finding, a proposed rule to list the Sacramento splittail and a final determination on or before September 29, 2011. This notice constitutes notification of the opening of the 30-day public comment period.

You may obtain copies of the 2003 remanded determination, and other previous Federal actions relating to the Sacramento splittail by mail from the San Francisco Bay-Delta Fish and Wildlife Office (see FOR FURTHER INFORMATION CONTACT section), or on the Internet at http://www.fws.gov/sfbaydelta/, or by visiting the Federal eRulemaking Portal at http://www.regulations.gov.

Author

The primary authors of this notice are the staff members of the Bay-Delta Fish and Wildlife Office (see FOR FURTHER INFORMATION CONTACT).

Authority

The authority for this action is the Endangered Species Act of 1973, as amended (16 U.S.C. 1531 et seq.).

Dated: April 8, 2010.
Rowan Gould,
Acting Director, U.S. Fish and Wildlife Service.

[FR Doc. 2010-8962 Filed 4-19-10; 8:45 am]

BILLING CODE 4310-55-S